DEPARTMENT OF COMMERCE

International Trade Administration

[A-570-601]

Tapered Roller Bearings and Parts Thereof, Finished and Unfinished From the People's Republic of China: Notice of Court Decision Not in Harmony With the Final Results of Antidumping Duty Administrative Review and Notice of Amended Final Results Pursuant to Court Decision; 2010-2011

AGENCY: Enforcement and Compliance, International Trade Administration, Department of Commerce.

SUMMARY: On August 19, 2014, the United States Court of International Trade (“CIT” or “Court”) sustained the Department of Commerce's (the “Department”) results of redetermination, pursuant to the CIT's remand order, in The Timken Company v. United States and Changshan Peer Bearing Co., Ltd. and Peer Bearing Company, Slip Op. 2014-97 (CIT August 19, 2014), concerning the final results of the antidumping duty administrative review for tapered roller bearings and parts thereof, finished and unfinished from the People's Republic of China (“PRC”) for the period of review June 1, 2010 to May 31, 2011.¹

¹ See Final Results of Redetermination Pursuant to Court Remand, Court No. 13-00069, Slip Op. 14-97, dated June 12, 2014, available at: http://enforcement.trade.gov/remands/index.html (“TRBs Final Remand”); Tapered Roller Bearings and Parts Thereof, Finished and Unfinished From the People's Republic of China: Amended Final Results of Antidumping Duty Administrative Review; 2010-2011, 78 FR 12035 (February 21, 2013) (“Amended Final Results”).

Consistent with the decision of the United States Court of Appeals for the Federal Circuit (“CAFC”) in Timken Co. v. United States, 893 F.2d 337 (Fed. Cir. 1990) (“Timken”), as clarified by Diamond Sawblades Mfrs. Coalition v. United States, 626 F.3d 1374 (Fed. Cir. 2010) (“Diamond Sawblades”), the Department is notifying the public that the final judgment in this case is not in harmony with the Department's Amended Final Results, and it is amending the Amended Final Results with respect to Changshan Peer Bearing Co., Ltd.

DATES: Effective: August 29, 2014.

FOR FURTHER INFORMATION CONTACT: Brandon Farlander, Office IV, Enforcement and Compliance, International Trade Administration, U.S. Department of Commerce, 14th Street and Constitution Avenue NW., Washington, DC 20230; telephone: (202) 482-0182.

SUPPLEMENTARY INFORMATION:

Background

On February 21, 2013, the Department published the Amended Final Results. One Chinese exporter of tapered roller bearings from the PRC, Changshan Peer Bearing Co., Ltd., appealed the Department's Amended Final Results to the CIT, and on May 2, 2014, the Court granted the Department's request for a voluntary remand to reexamine the alleged currency conversion error in Changshan Peer Bearing Co., Ltd.'s reported further manufacturing costs.² After reexamining Changshan Peer Bearing Co., Ltd.'s further manufacturing costs, the Department determined that the further manufacturing costs were reported in Thai baht (not U.S. dollars) and therefore required conversion into U.S. dollars. On August 19, 2014, the CIT affirmed the Department's TRBs Final Remand, which resulted in a weighted-average dumping margin of 0.00% for Changshan Peer Bearing Co., Ltd.

² See The Timken Company v. United States and Changshan Peer Bearing Co., Ltd. and Peer Bearing Company, Slip Op. 2014-51 (CIT May 2, 2014).

Timken Notice

In its decision in Timken, 893 F.2d at 341, as clarified by Diamond Sawblades, the CAFC held that, pursuant to section 516A(e) of the Tariff Act of 1930, as amended (“the Act”), the Department must publish a notice of a court decision that is not “in harmony” with a Department determination and must suspend liquidation of entries pending a “conclusive” court decision. The CIT's August 19, 2014 judgment sustaining the TRBs Final Remand constitutes a final decision of that court that is not in harmony with the Amended Final Results. This notice is published in fulfillment of the publication requirements of Timken.

Amended Final Results

Because there is now a final court decision with respect to this litigation, the Department is amending its Amended Final Results with respect to Changshan Peer Bearing Co., Ltd.'s weighted-average dumping margin. The revised weighted-average dumping margin for the period June 1, 2010 to May 31, 2011, for Changshan Peer Bearing Co., Ltd. is 0.00%.

Accordingly, the Department will continue the suspension of liquidation of the subject merchandise pending the expiration of the period of appeal or, if appealed, pending a final and conclusive court decision. In the event the Court's ruling is not appealed, or if appealed and upheld by the Federal Circuit, the Department will instruct U.S. Customs and Border Protection (CBP) to assess antidumping duties on entries of the subject merchandise exported by Changshan Peer Bearing Co., Ltd. using the revised assessment rate calculated by the Department in the Remand Results and listed above.

Cash Deposit Requirements

Since the Amended Final Results, the Department has established a new cash deposit rate for Changshan Peer Bearing Co., Ltd.³ Therefore, Changshan Peer Bearing Co., Ltd.'s cash deposit rate does not need to be updated as a result of these amended final results. The cash deposit rate for Changshan Peer Bearing Co., Ltd. will remain the rate established for the subsequent and most-recent period during which Changshan Peer Bearing Co., Ltd. was reviewed.

³ See Tapered Roller Bearings and Parts Thereof, Finished and Unfinished, From the People's Republic of China: Final Results of the 2011-2012 Antidumping Duty Administrative Review and New Shipper Reviews, 79 FR 4327 (January 27, 2014).

Notification to Interested Parties

This notice is issued and published in accordance with sections 516A(e)(1), 751(a)(1), and 777(i)(1) of the Act.

Dated: September 17, 2014.
Ronald K. Lorentzen,
Acting Assistant Secretary for Enforcement and Compliance.

[FR Doc. 2014-22627 Filed 9-22-14; 8:45 am]

BILLING CODE 3510-DS-P